FEDERAL COMMUNICATIONS COMMISSION

47 CFR Part 64

[CG Docket No. 02-278; FCC 12-21]

Telephone Consumer Protection Act of 1991

AGENCY: Federal Communications Commission.

ACTION: Final rule; correction.

SUMMARY: The Federal Communications Commission (FCC) is correcting a final rule that appeared in the Federal Register of October 16, 2012. The document announces the effective date of rules containing information collection requirements approved by the Office of the Management and Budget that were adopted to address unwanted telemarketing calls.

DATES: Effective October 16, 2012.

FOR FURTHER INFORMATION CONTACT: Karen Johnson, Consumer and Governmental Affairs Bureau, Consumer Policy Division, at (202) 418-7706 or email Karen.Johnson@fcc.gov <mailto:Karen.Johnson@fcc.gov>.

SUPPLEMENTARY INFORMATION: This document makes the following corrections to the final rule published October 16, 2012, at 77 FR 63240:

Corrected

1. On page 63240, column 2, revise the DATES section to read as follows:

DATES: The amendments to 47 CFR 64.1200(a)(2) and 64.1200(a)(3), published at 77 FR 34233, June 11, 2012, are effective October 16, 2013. 47 CFR 64.1200(a)(7), except 64.1200(a)(7)(i)(B), published at 77 FR 34233, June 11, 2012 is effective November 15, 2012.

47 CFR 64.1200(a)(7)(i)(B), published at 77 FR 34233, June 11, 2012, is effective January 14, 2013. 47 CFR 64.1200(b)(3), published at 77 FR 34233, June 11, 2012, is effective January 14, 2013.

Federal Communications Commission.
Marlene H. Dortch,
Secretary, Office of the Secretary, Office of Managing Director.

[FR Doc. 2012-27118 Filed 11-7-12; 8:45 am]

BILLING CODE 6712-01-P